DEPARTMENT OF COMMERCE

National Oceanic and Atmospheric Administration

50 CFR Part 648

[Docket No. 100804323-0569-02]

RIN 0648-XA617

Fisheries of the Northeastern United States; Atlantic Mackerel, Squid, and Butterfish Fisheries; Closure of the 2011 Trimester 2 Directed Loligo Squid Fishery

AGENCY: National Marine Fisheries Service (NMFS), National Oceanic and Atmospheric Administration (NOAA), Commerce.

ACTION: Temporary rule; closure.

SUMMARY: NMFS announces that 90 percent of the Trimester 2 Loligo squid (Loligo) quota is projected to be harvested by 0001 hours, August 23, 2011. Therefore, the directed Loligo fishery in the Exclusive Economic Zone (EEZ) will be closed as of 0001 hours, August 23, 2011, and vessels issued a Federal permit are prohibited from possessing or landing more than 2,500 lb (1.13 mt) of Loligo for the remainder of Trimester 2 (through August 31, 2011). The directed Loligo fishery will re-open for Trimester 3 on September 1, 2011. This action is necessary to prevent the fishery from exceeding its Trimester 2 allocation of 11,190,664 lb (5,076 mt), and to allow for effective management of this stock.

DATES: Effective 0001 hours, August 23, 2011, through 2400 hours, August 31, 2011.

FOR FURTHER INFORMATION CONTACT: Lindsey Feldman, Fishery Management Specialist, 978-675-2179, Fax 978-281-9135.

SUPPLEMENTARY INFORMATION: Regulations governing the Loligo fishery are found at 50 CFR part 648. The regulations require specifications for maximum sustainable yield, initial optimum yield, allowable biological catch, domestic annual harvest (DAH), domestic annual processing, joint venture processing, and total allowable levels of foreign fishing for the species managed under the Atlantic Mackerel, Squid, and Butterfish Fishery Management Plan (FMP). The procedures for setting the annual initial specifications are described in § 648.21.

The 2011 specification of DAH for Loligo was set at 3,384 mt (76 FR 8306, February 14, 2011). Due to an under harvest of the Trimester 1 Loligo quota, on May 16, 2011, the Trimester 2 quota was increased to 5,076 mt. Section 648.22 requires NMFS to close the directed Loligo fishery in the EEZ when 90 percent of the Trimester 2 quota is projected to be harvested. NMFS is required to notify the Executive Directors of the Mid-Atlantic, New England, and South Atlantic Fishery Management Councils; mail notification of the closure to all Loligo permit holders at least 72 hr before the effective date of the closure; provide adequate notice of the closure to recreational participants in the fishery; and publish notification of the closure in the Federal Register.

The Administrator, Northeast Region, NMFS, based on dealer reports and other available information, has determined that 90 percent of the Trimester 2 Loligo quota for the 2011 fishing year will be harvested on August 23, 2011. Therefore, effective 0001 hours, August 23, 2011, Trimester 2 directed Loligo fishery is closed and vessels issued Federal permits for Loligo are prohibited from possessing or landing more than 2,500 lb (1.13 mt) of Loligo through August 31, 2011. The Trimester 3 Loligo fishery will open at 0001 hours, September 1, 2011.

Classification

This action is required by 50 CFR part 648, and is exempt from review under Executive Order 12866.

The Assistant Administrator for Fisheries, NOAA (AA), finds good cause pursuant to 5 U.S.C. 553(b)(B) to waive prior notice and the opportunity for public comment because it would be contrary to the public interest. This action closes the directed Loligo fishery until August 31, 2011, under current regulations. The regulations at § 648.21 require such action to ensure that Loligo vessels do not exceed the 2011 Trimester 2 quota. Data indicating the Loligo fleet will have landed at least 90 percent of the 2011 Trimester 2 quota have only recently become available. If implementation of this closure is delayed to solicit prior public comment, the quota for Trimester 2 will be exceeded, thereby undermining the conservation objectives of the FMP. The AA further finds, pursuant to 5 U.S.C. 553(d)(3), good cause to waive the 30-day delayed effectiveness period for the reasons stated above.

Authority: 16 U.S.C. 1801 et seq.

Dated: August 15, 2011.
James P. Burgess,
Acting Director, Office of Sustainable Fisheries, National Marine Fisheries Service.

[FR Doc. 2011-21109 Filed 8-17-11; 8:45 am]

BILLING CODE 3510-22-P